DEPARTMENT OF DEFENSE

Department of the Army

Army Science Board Closed Meeting Notice

AGENCY: Department of the Army, DoD.

ACTION: Notice of a partially closed meeting.

SUMMARY: Pursuant to the Federal Advisory Committee Act of, the Government in the Sunshine Act of 1976 and Ttile 41 of he Code of Federal Regulations (CFR, the Department of the Army announces the meeting of the: Army Science Board (ASB) Summer Voting Session.

FOR FURTHER INFORMATION CONTACT: Army Science Board, Designated Federal Officer, 2530 Crystal Drive, Suite 7098, Arlington, VA 22202; MAJ Sean M. Madden, the committee's Designated Federal Officer (DFO), at (703)-545-8652 or email: sean.m.madden.mil@mail.mil, or Mr. Paul Woodward at (703)-695-8344 or email: paul.j.woodward2.civ@mail.mil.

SUPPLEMENTARY INFORMATION:

Name of Committee: Army Science Board (ASB) Summer Voting Session.

Date: Thursday, July 20, 2017.

Time: 0930-1530.

Location: Arnold and Mabel Beckman Center of the National Academies of Sciences and Engineering, 100 Academy Way, Irvine, CA 92617.

Purpose of Meeting: The purpose of the meeting is for ASB members to review, deliberate, and vote on the findings and recommendations presented for four Fiscal Year 2017 (FY17) ASB studies.

Agenda: The board will present findings and recommendations for deliberation and vote on the following FY17 studies:

Capabilities To Operate in Megacities and Dense Urban Areas. This study is classified and will be presented in a closed meeting at 1300-1400. The objective of the study is to assess operational approaches and capabilities (leveraging technology, partnerships, and local populations) which would enable Army units to operate effectively in megacities and dense urban areas in the 2025-2030 timeframe.

Improving Transition of Laboratory Programs into Warfighting Capabilities through Experimentation. This study is not classified and will be presented during an open portion of the meeting at 1045-1145. The objective of the study is to assess if early integration of concept experimentation (BA 6.4) with Applied (BA 6.2) and Advanced (BA 6.3) Development helps avoid the “valley of death” for emerging, innovative technologies and capabilities.

Multi-Domain Battle. This study is classified and will be presented in the closed meeting at 0930-1030. The objective of the study is to assess how expanding and re-balancing the Army's focus on AirLand Battle (ALB) to fighting more effectively in all five Department of Defense (DoD)-recognized military warfighting domains (henceforth referred to simply as “domains,” which include land, air, sea (maritime), space, and cyberspace, as well as operational environments which could emerge as more important “battlefields,” such as the electromagnetic spectrum (EMS) and cognitive) could significantly enhance tactical, operational, and strategic outcomes.

The Future Character of Warfare and Required Capabilities. This study is classified and will be presented in a closed meeting at 1415-1515. The objective of the study is to assess the character of warfare in the 2030-2050 timeframe and identify solution strategies for capability development that the Army could initiate in the near-term in order to ensure ground combat forces are better prepared to achieve national objectives and sustainable political outcomes in the volatile, uncertain, complex, and ambiguous battlefields of the future.

Public's Accessibility to the Meeting: The Department of the Army has determined that the closed meeting is properly closed in accordance with 5 U.S.C. 552b(c)(1), which permits Federal Advisory Committee meetings to be closed which are likely to “disclose matters that are (A) specifically authorized under criteria established by an Executive Order to be kept secret in the interest of national defense or foreign policy and (B) in fact properly classified pursuant to such Executive Order.”

Filing Written Statement: Pursuant to 41 CFR 102-3.140d, the Committee is not obligated to allow the public to speak; however, interested persons may submit a written statement for consideration by the Subcommittees. Individuals submitting a written statement must submit their statement to the DFO at the address listed above. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

Brenda S. Bowen,
Army Federal Register Liaison Officer.

[FR Doc. 2017-13035 Filed 6-21-17; 8:45 am]

BILLING CODE 5001-03-P